DEPARTMENT OF TRANSPORTATION

National Highway Traffic Safety Administration

[Docket No. NHTSA-2000-7268]

Denial of Petition for Import Eligibility Decision

This notice sets forth the reasons for the denial of a petition submitted to the National Highway Traffic Safety Administration (NHTSA) under 49 U.S.C. 30141(a)(1)(A). The petition, which was submitted by Champagne Imports, Inc. of Lansdale, Pennsylvania (“Champagne”), a registered importer of motor vehicles, requested NHTSA to decide that 1995-1996 Audi Cabriolet passenger cars that were not originally manufactured to comply with all applicable Federal motor vehicle safety standards are eligible for importation into the United States. In the petition, Champagne contended that these vehicles are eligible for importation on the basis that (1) they are substantially similar to vehicles that were originally manufactured for importation into and sale in the United States and that were certified by their manufacturer as complying with the safety standards (the U.S. certified version of the 1995-1996 Audi Cabriolet), and (2) they are capable of being readily altered to conform to the standards.

NHTSA published a notice in the Federal Register on December 13, 1999 (64 FR 69583) that contained a thorough description of the petition, and solicited public comments upon it. One comment was received in response to the notice, from Volkswagen of America, Inc. (“Volkswagen”), the United States representative of Audi AG, the vehicle's manufacturer. In this comment, Volkswagen contended that non-U.S. certified 1995-1996 Audi Cabriolet passenger cars are ineligible for importation because they are not substantially similar to vehicles that were originally manufactured and certified for sale in the United States and are not capable of being readily altered to conform to the standards. Specifically, Volkswagen observed that the non-U.S. certified 1995-1996 Audi Cabriolet passenger cars that are the subject of the petition are equipped with a 2.6 liter V6 engine rated at 150 hp with front wheel drive and a manual 5-speed transmission. Volkswagen stated that the only engine installed on 1995-1996 Audi Cabriolet passenger cars certified for the U.S. market was a 2.8 liter V6 rated at 172 hp. As a consequence, Volkswagen asserted that the engine components of the non-U.S. certified 1995-1996 Audi Cabriolet were not certified to any of the Federal motor vehicle safety standards containing requirements that relate to engines. Volkswagen identified those standards as including Standard Nos. 103 Windshield Defrosting and Defogging Systems, 105 Hydraulic Brake Systems, 124 Accelerator Control Systems, and insofar as they require the dynamic crash testing of a vehicle, Standard Nos. 208 Occupant Crash Protection, 212 Windshield Mounting, 219 Windshield Zone Intrusion, and 301 Fuel System Integrity. Volkswagen additionally noted that the petitioner erroneously claimed that non-U.S. certified 1995-1996 Audi Cabriolet passenger cars comply with the Bumper Standard found at 49 CFR Part 581. Volkswagen observed that the bumper components on these vehicles differ from those installed on U.S. certified models.

NHTSA accorded Champagne an opportunity to respond to Volkswagen's comments. In its response, Champagne did not address any of the issues raised by Volkswagen, and requested that its petition be withdrawn. Because it had already solicited public comments on the petition, NHTSA could not accede to this request.

In light of Volkswagen's comments, NHTSA has concluded that the petition does not clearly demonstrate that non-U.S. certified 1995-1996 Audi Cabriolet passenger cars are eligible for importation. The petition must therefore be denied under 49 CFR 593.7(e).

In accordance with 49 U.S.C. 30141(b)(1), NHTSA will not consider a new import eligibility petition covering this vehicle until at least three months from the date of this notice.

Authority: 49 U.S.C. 30141(a)(1)(A) and (b)(1); 49 CFR 593.7; delegations of authority at 49 CFR 1.50 and 501.8.

Issued on: May 30, 2000.
Marilynne Jacobs,
Director, Office of Vehicle Safety Compliance.

[FR Doc. 00-13886 Filed 6-1-00; 8:45 am]

BILLING CODE 4910-59-P